DEPARTMENT OF HOMELAND SECURITY

Coast Guard

[USCG-2011-1178]

National Preparedness for Response Exercise Program (PREP) Guidelines

AGENCY: Coast Guard, DHS.

ACTION: Notice and request for comment.

SUMMARY: The U.S. Coast Guard (USCG) announces that the updated draft PREP Guidelines are available for public comment. The USCG is publishing this notice on behalf of the National Scheduling Coordination Committee (NSCC), which is comprised of representatives from the USCG; Environmental Protection Agency (EPA); Pipeline and Hazardous Materials Safety Administration (PHMSA) under the Department of Transportation (DOT); and the Bureau of Safety and Environmental Enforcement (BSEE) under the Department of the Interior (DOI).

DATES: Comments must reach USCG by April 28, 2015.

ADDRESSES: You may submit comments and additional materials, identified by USCG docket number USCG-2011-1178, using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for further instructions on submitting comments. To avoid duplication, please use only one of these methods.

FOR FURTHER INFORMATION CONTACT:

For USCG: Mr. Jonathan Smith, Office of Marine Environmental Response Policy, 202-372-2675.

For BSEE: Mr. John Caplis, Oil Spill Preparedness Division, 703-787-1364.

For EPA: Mr. Troy Swackhammer, Office of Emergency Management, Regulation and Implementation Division, 202-564-1966.

For PHMSA: Mr. Eddie Murphy, Office of Pipeline Safety, 202-366-4595.

For questions on viewing or submitting material to the docket: Ms. Cheryl Collins, Program Manager, DOT Docket Operations, 202-366-9826.

SUPPLEMENTARY INFORMATION:

I. Public Participation and Request for Comments

We encourage you to participate in the revision of the PREP Guidelines by submitting comments and related materials. All comments received will be posted without change to http://www.regulations.gov and will include any personal information you have provided.

Submitting comments: If you submit a comment, please include the docket number (USCG-2011-1178), indicate the specific section of the PREP Guidelines to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov, type “USCG-2011-1178” in the search box, and click “Search.” Then click “Comment Now!” on the appropriate line. If you submit your comments by mail or hand delivery, submit them in an unbound format, no larger than 8½ by 11 inches, suitable for copying and electronic filing. If you submit comments by mail and would like to know that they reached the DOT Facility, please enclose a stamped, self-addressed postcard or envelope. We will consider all comments and material received during the comment period.

Viewing comments and documents: To view comments as well as documents mentioned in this notice as being available in the docket, go to http://www.regulations.gov, type “USCG-2011-1178” and click “Search.” Then click the “Open Docket Folder.” Additional relevant comments are available in docket BSEE-2014-0003 and may be viewed online using the same procedure as for docket USCG-2011-1178. If you do not have access to the Internet, you may view the docket online by visiting the Docket Management Facility in Room W12-140 on the ground floor of the DOT West Building, 1200 New Jersey Avenue SE., Washington, DC 20590, between 9 a.m. and 5 p.m., Monday through Friday, except Federal holidays. We have an agreement with the DOT to use the Docket Management Facility.

Privacy Act: Anyone can search the electronic form of comments received into any of our dockets by the name of the individual submitting the comment (or signing the comment, if submitted on behalf of an association, business, labor union, etc.). You may review a Privacy Act and system of records notice regarding our public dockets in the January 17, 2008, issue of the Federal Register (73 FR 3316).

Public meeting: We do not currently plan to hold a public meeting, but you may request one using any of the methods listed under ADDRESSES. Please explain why you believe a public meeting would be beneficial. If we determine that a public meeting would aid the revision of the PREP Guidelines, we will hold one at a time and place announced by a later notice in the Federal Register.

II. Acronyms

ACP Area Contingency Plan

AMPD Average Most Probable Discharge

APC Alternative Planning Criteria

BSEE Bureau of Safety and Environmental Enforcement

CFR Code of Federal Regulations

DOI Department of the Interior

DOT Department of Transportation

EPA Environmental Protection Agency

FOSC Federal On-Scene Coordinator

FPSO Floating Production, Storage, and Offloading

FR Federal Register

GIUE Government-Initiated Unannounced Exercise

GRPs Geographic Response Plans

GRS Geographic Response Strategies

HSEEP Homeland Security Exercise and Evaluation Program

IMT Incident Management Team

MFF Marine Firefighting

MMPD Maximum Most Probable Discharge

MOA Memorandum of Agreement

MODU Mobile Offshore Drilling Unit

MOU Memorandum of Understanding

NRT National Response Team

NSCC National Scheduling Coordination Committee

NTV Nontank Vessels

OPA 90 Oil Pollution Act of 1990

OSPD Oil Spill Preparedness Division

OSRO Oil Spill Removal Organization

OSRP Oil Spill Response Plan

PHMSA Pipeline and Hazardous Materials Safety Administration

PREP Preparedness for Response Exercise Program

QI Qualified Individual

SMFF Salvage and Marine Firefighting

SMT Spill Management Team

SONS Spill of National Significance

TTX Tabletop Exercise

USCG U.S. Coast Guard

VRP Vessel Response Plan

WCD Worst Case Discharge

III. Background

On February 22, 2012, the USCG, on behalf of the NSCC, invited comments and suggestions for updating the PREP Guidelines (77 FR 10542). The NSCC received public comments in docket number USCG-2011-1178, and those comments can be viewed online as described in the “Public Participation” section earlier in this document. After considering those comments, the NSCC issued a draft update to the PREP Guidelines. The NSCC also issued a notice (79 FR 16363, March 24, 2014) that announced the availability of the draft update to the PREP Guidelines, invited comment on the draft, and provided responses to the comments received in docket USCG-2011-1178. That second notice (79 FR 16363) was published as a BSEE-issued document in docket BSEE-2014-0003. The NSCC has considered the comments received in docket BSEE-2014-0003, and today announces the availability of an updated draft, invites public comment on the updated draft, and responds to comments received in the BSEE docket in response to the March 24, 2014, notice. Although this document responds to comments received in the BSEE docket, all further comments should be directed to the docket USCG-2011-1178.¹ The NSCC does not plan to use other dockets for this revision of the PREP Guidelines.

¹ On July 16, 2014, BSEE published a notice indicating that an updated draft would be made available for public comment in the original USCG docket, USCG-2011-1178 (79 FR 41592).

IV. Summary of Comments and Changes

When BSEE, on behalf of the NSCC, requested public review of the first updated draft PREP Guidelines in its March 2014 notice, BSEE received 83 comments from government agencies, regulated communities, private industry, and non-governmental organizations. All of the comments received are posted on http://www.regulations.gov, under docket number BSEE-2014-0003. This document summarizes and responds to those comments that were within the scope of the proposed update.

The NSCC has incorporated numerous changes to the draft PREP Guidelines document as a result of these public comments, and has also updated the document to reflect other new planning requirements such as the recent regulatory requirements relating to nontank vessels (NTVs). In the following sections, we summarize the comments that the NSCC received and the changes it has made to the revised update of the PREP Guidelines.

A. Summary of Changes

Definitions and Terminology: The NSCC has changed certain exercise-related terms in order to harmonize PREP with other national-level exercise programs. In particular, the term “Spill Management Team (SMT)” has been replaced by the term “Incident Management Team (IMT).” The term “Tabletop Exercise (TTX)” has been removed from the PREP terminology and will now simply be referred to as an exercise. For example, an SMT TTX will now be called an IMT exercise.

Salvage and Marine Firefighting (SMFF) Additions: The draft PREP Guidelines now include guidance for including SMFF providers and equipment into a plan holder's exercise program, in response to regulatory requirements at 33 Code of Federal Regulations (CFR) 155.4052. These updates appear throughout the Guidelines in applicable sections.

NTV Additions: The PREP Guidelines now include guidance for exercises for NTV response plans, in response to regulatory requirements at 33 CFR 155.5060.

Use of Alternative Worst Case Discharges (WCD) Scenarios during IMT Exercises: The draft Guidelines have been revised to allow for alternative WCD scenarios to be exercised. Some Facilities and Complex Facilities have more than one possible WCD, for example a storage tank and a pipeline section. Such plan holders are encouraged to consider adverse environmental impacts and to exercise more than just their largest volume WCD scenario.

Exercise Frequency: The draft Guidelines have been updated to ensure consistency among NSCC agencies regarding the frequency of equipment deployment exercises. In particular, the frequency of deployment exercises for equipment that is owned by the facility, operated by Oil Spill Removal Organizations (OSROs), and listed in EPA-regulated plans has been changed from annually to semi-annually. This change will ensure the readiness of equipment that is not regularly used in actual spill response operations.

Oil Spill Surveillance and Tracking Systems: USCG and BSEE regulations require plan holders to ensure available resources for oil spill surveillance and tracking. The PREP Guidelines establish a list of the types of equipment to be exercised during internal deployment exercises. This latest version of the Guidelines specifically identifies oil spill surveillance and tracking systems as a type of response equipment to be exercised during internal equipment deployment exercises in order to test the plan holders abilities to effectively support and direct other response activities and equipment, such as the use of dispersants, in-situ burning, mechanical recovery, shoreline protection, or wildlife recovery.

Area-level Exercise Cycle: The exercise frequency for Area-level exercises has been changed from three to four years. This change applies only to the Area-level exercise cycle and does not change an industry plan holder's exercise cycle as recommended in the draft PREP Guidelines, nor does it change the frequency of any industry plan holder exercises required by any oil spill planning regulations.

B. Summary of Comments and Responses

General Comments

Additional Time to Review the Guidelines: One commenter asked for an extended review period as they were not aware of the previous posting of the Guidelines in the Federal Register.

Response: In addition to the comment in the docket, the NSCC has received numerous comments through other channels requesting additional time to review the Guidelines. This version of the Guidelines is being released today for public comment by the NSCC for a period of sixty days to accommodate the numerous requests.

Aligning PREP Terminology and Processes with Other National Exercise Programs: Three commenters recommended aligning the PREP Guidelines with various elements of the Homeland Security Exercise and Evaluation Program (HSEEP).

Response: The NSCC has decided to adopt certain terminology from HSEEP in order to better align the two programs, especially where HSEEP terms are more reflective of the lexicon used today within the National Incident Management System. As a result, the term “SMT” has been replaced by the term “IMT.” The term “TTX” has also been replaced with the term “exercise.” Recommendations for replacing other terms, such as changing deployment “exercises” to “drills,” were not adopted because the NSCC did not want to introduce confusion by changing established, recognized terms. The NSCC also did not believe it was within the scope of the existing PREP mandate under OPA90 to completely adopt the HSEEP exercise design and evaluation processes. While the NSCC would encourage plan holders to consider adopting various HSEEP best practices, HSEEP procedures are currently not required by any of the Oil Pollution Act of 1990 (OPA90) implementing regulations established by the NSCC member agencies.

Unified Command during PREP Exercises: One commenter stated that the definition of Unified Command in the PREP Guidelines was too broad and should be more constrained to agencies with primary jurisdiction in the incident.

Response: The National Response Team (NRT) states in its Technical Assistance Document on Unified Command that for entities to be considered for inclusion within a Unified Command, they should have authority or functional responsibility for an area of responsibility that may be affected by an incident, as well as authority to command, coordinate, or manage a major aspect of the response. The NSCC has clarified the language within the definition to more closely align with the NRT guidance.

Use of the Acronym “OSRO” in PREP Terminology: One commenter stated that the acronym “OSRO” was being used for two different terms and definitions, i.e., “Oil Spill Removal Organization” and “Oil Spill Response Organization,” which can create confusion.

Response: The NSCC has removed the definition for Oil Spill Response Organization from the Guidelines. The acronym “OSRO” now only refers to an Oil Spill Removal Organization as defined in this latest version of the draft PREP Guidelines.

Use of Electronic Messaging for Qualified Individual (QI) Notification Exercises (Section 2): One commenter requested that electronic messaging be allowed as a primary means for notifying QIs of a spill.

Response: The NSCC has reviewed the language within the draft PREP Guidelines and has determined that the language will remain the same. The NSCC determined that voice should remain the primary means of communication because it quickly confirms that the notification has been received, and allows for immediate questions that may save time in emergencies; however, electronic messaging is an acceptable alternative if voice is unavailable. Confirmation of notification must be received with any communication method.

Equipment Deployment Exercises and Lessons Learned Regarding Equipment Performance: One commenter noted a concern regarding the conditions under which equipment deployment exercises are conducted, as well as the lack of mechanisms in place to capture field deployment information. This commenter recommended that the USCG and BSEE develop a standard system to evaluate the performance of spill response equipment under a range of environmental conditions and capture that information in a lessons learned database.

Response: The primary purpose of the PREP Guidelines is to provide guidance to industry on oil spill response exercises as required by OPA 90. The collection of information concerning the performance of spill response equipment in a database is outside the scope of these Guidelines.

Dispersant-Related Objectives during PREP Exercises: One commenter submitted an extensive set of recommendations regarding the need to incorporate more specific dispersant-related objectives in unannounced, deployment, IMT, and Area-level exercises.

Response: Both BSEE and USCG regulations have requirements concerning dispersant capabilities for many of their plan holders. Most coastal Regional and Area Contingency Plans (ACPs) now have preauthorization agreements in place for the use of dispersants and in-situ burning. In order to ensure both government and industry preparedness to use all available response countermeasures, the NSCC incorporated additional recommended guidance regarding dispersants and in-situ burning into the various exercise objectives. In particular, the NSCC included in the draft Guidelines an exercise objective for industry IMT exercises to prepare and submit usage plans for Federal On-Scene Coordinator (FOSC) review and approval for each chemical, biological, or in-situ burning countermeasure that is cited as a response strategy within an Oil Spill Response Plan (OSRP) during the course of their exercise cycle. The NSCC has similarly incorporated a specific objective for Area-level IMT exercises to prepare usage plans and recommendations for FOSC review and approval for any chemical or biological countermeasures or in-situ burning that are identified as response strategies in the ACP. Finally, the NSCC has provided additional guidance necessary for properly conducting internal equipment deployment exercises of dispersant and in-situ burning equipment and procedures.

Tidal Seal Boom Deployment: One commenter pointed out that under the previous Guidelines, only fifty feet of tidal seal boom need be deployed and that the revised version no longer included this information.

Response: The statement “Only 50 feet of this type of boom need be deployed” has been included in this latest version of the draft Guidelines.

Government-Initiated Unannounced Exercises (GIUEs): One commenter drew attention to the fact that guidelines for GIUEs are agency-specific and that the NSCC gave a timeframe for when it will conduct unannounced exercises in the area.

Response: The timeframe has been removed to harmonize the Guidelines.

Area-Level Exercise Goals: One commenter noted that Area-level exercise goals appear aggressive and that some Area-level exercises approach a Spill of National Significance (SONS) in scope and complexity, and recommended that the Guidelines limit exercises to a single day.

Response: NSCC members have determined that the language in the PREP Guidelines will remain the same. The NSCC does not want to limit the flexibility of Area Committees in designing exercises that meet their needs.

Testing Geographic Response Plans (GRPs) during PREP Exercises: One commenter noted that GRPs and Geographic Response Strategies (GRSs), which have been incorporated into many ACPs, should be incorporated into PREP, tested during deployment exercises, and the resultant data collected to be used to improve the GRPs/GRSs.

Response: The NSCC agrees that the targeted testing of certain GRPs and GRSs is a desirable preparedness activity that could improve the quality of the strategies contained within an ACP. The PREP Guidelines cover the testing of response strategies at Section 2, Guiding Principles, Subpart J, Area Exercises. The NSCC encourages Area Committees and FOSCs to consider exercising and evaluating GRPs as part of the Area Exercise Cycle, subject to their discretion and available funding.

Removal of PREP Documentation and Certification Forms from Appendix: One commenter raised concern about the removal of the forms from the PREP Guidelines for documentation for self-certification.

Response: The forms were removed from the PREP Guidelines to avoid the appearance that any particular form of documentation was required. While the forms are no longer in the Guidelines, industry may choose to use those or any other form or template, at their own discretion, for their internal documentation.

Multi-Agency Regulated Facility and Vessel Comments

Complex Facilities Regulated by More Than One Federal Agency: One commenter raised concern that complex facilities are addressed by WCD amounts and not in average most probable discharge (AMPD) or maximum most probable discharge (MMPD).

Response: The NSCC has updated the definitions for AMPD and MMPD with language about complex facilities similar to WCD for complex facilities regulated by more than one federal agency.

Agency Jurisdiction for PREP with Respect to Mobile Offshore Drilling Units (MODU) and Floating Production, Storage, and Offloading (FPSO) Vessels: One commenter asked for clarification of agency jurisdiction for PREP with respect to MODUs and FPSO vessels.

Response: MODUs and FPSO vessels may be properly characterized as both offshore facilities and vessels. Multi-function offshore units such as FPSOs and MODUs are regulated by both USCG and BSEE with respect to these different functions, and each agency will have its own separate jurisdiction and regulatory oversight of these functional areas. In addition, the USCG and BSEE have entered into a general Memorandum of Understanding (MOU), along with specific Memorandums of Agreement (MOAs), with respect to jurisdictional oversight. As such, it is up to each agency to provide guidance regarding the applicability of its regulations and PREP Guidelines. When MODUs and FPSO vessels are conducting operations as an offshore facility, the offshore facility PREP Guidelines overseen by BSEE apply. When MODUs and FPSO are operating as vessels, vessel PREP Guidelines overseen by USCG apply. BSEE and the USCG will work closely together to ensure a coordinated approach to PREP guidance and oversight with respect to these dual purpose entities whenever possible.

USCG-Regulated Vessels and Marine Transportation-Related Facilities Comments

Economic Analysis for SMFF Requirements: Multiple commenters requested that an economic analysis be conducted for the PREP Guidelines regarding the SMFF exercise requirements.

Response: The PREP Guidelines are voluntary guidelines that only provide optional, recommended methods for complying with the existing regulatory requirements. As such, economic analyses are not required to be prepared for the PREP Guidelines. The regulations themselves were subjected to an economic analysis prior to their promulgation.²

² Economic analysis information is found in the preambles to the final rule for salvage and marine firefighting (73 FR 80618, December 31, 2008) and the final rule for nontank vessel response plans (78 FR 60099, September 30, 2013).

To address the concern about the economic burden of new exercise requirements on vessel owners and operators, several modifications have been made to the PREP Guidelines as follows:

1. To comply with PREP Guidelines, vessels must conduct a Remote Assessment and Consultation Exercise for Vessels annually. PREP exercise requirements for Remote Assessment and Consultation Exercises have been more completely defined to improve the effectiveness of response planning for this service.

2. PREP exercises for SMFF emergency lightering and MFF services do not apply to NTVs with an oil capacity under 250 barrels.

3. Plan holders may claim credit for combined PREP exercises, incidents, and in the case of SMFF, they may claim PREP exercise credit for non-emergency equipment deployments during large-scale operations.

NTV and SMFF Definitions: Multiple comments were received asking for clarification of the definitions related to new NTV and SMFF regulations. In addition, one commenter noted that the PREP Guidelines emphasize spill cleanup; however, the principle purpose of SMFF is spill prevention and the commenter requested that spill prevention language be included in the PREP Guidelines.

Response: The following definitions have been reviewed and/or updated within the PREP Guidelines: Marine Firefighting (MFF) Organization, Plan Holder, Primary Resource Provider, Resource Provider, Salvage Organization, SMFF Provider, and SMFF Response Services. The USCG has replaced the words “spill response” with “response, and “spill management” with “incident management” throughout the document to reflect that certain exercises may not include a spill, but rather the prevention of a potential spill.

Remote Assessment and Consultation Exercises for Vessels—Value: Multiple commenters questioned the value of the remote assessment and consultation exercise. Others suggested that the exercise be applied to Vessel Response Plans (VRPs) instead of vessels.

Response: These exercises ensure that professional remote assessment and consultation services can be effectively activated within one hour of the time anyone in the response organization receives notification of the spill or potential spill. The early initiation of a situational assessment by a competent SMFF professional may prevent potential spills from turning into spills, and prevent actual spills from escalating in size.

Because of the short timeframe involved and the vessel-specific response required, this exercise must be conducted by each vessel covered under the response plan.

Remote Assessment and Consultation Exercises for Vessels—Participants: Several commenters expressed concern that the PREP Guidelines' remote assessment and consultation exercise description of participants did not reflect the process outlined in the VRP which involves initial notification via the QI. In contrast, one commenter said that since SMFF contractual agreements are directly between the owner/operator and SMFF provider, the remote assessment and consultation exercise participants should be the SMFF provider and vessel owner/operator, excluding the QI.

Response: In response to these comments, the PREP Guidelines' new remote assessment and consultation exercise description reflects that participants should be consistent with the VRP for notification/activation and provision of remote assessment and consultation services.

Emergency Procedures Exercises for Vessels—Participating Elements and Applicability to SMFF Providers: One commenter asked for clarification about whether or not the emergency procedures exercise includes SMFF resource providers.

Response: The PREP Guidelines' description of On-Board Emergency Procedures Exercise for vessels clearly indicates that the exercise applies to manned tank vessels and NTVs carrying oil as cargo or fuel, and that the participating elements are vessel personnel. Both the PREP On-Board Emergency Procedures Exercises and PREP's Remote Assessment and Consultation Exercises are based on scenarios found in the shipboard response chapter of the VRP. These exercises may be conducted separately. PREP allows exercises to be combined, and a vessel owner/operator may choose to combine these two exercises to multiply the benefits obtained in terms of reinforcing the procedures to achieve quicker and more effective initial response to a spill or the threat of a spill.

Incident Management Exercises for Vessels—Participating Elements: One commenter suggested that the plan holder be added to participating elements of the IMT exercise for vessels because plan holders should be aware of the IMT capabilities and their own requirements during an incident from one of their vessels.

Response: The USCG agrees that the regulated party should be involved in the exercise, as reflected in the VRP. No change was necessary to reflect this.

Shore-Based Salvage and Shore-Based MFF Exercises for Vessels—Separate or Combined Exercises: Multiple commenters requested that the shore-based salvage and shore-based MFF exercises not be held separately from IMT exercises. Some suggested that the salvage and MFF exercises be combined with each other since the services for each will, in most cases, be provided by the same primary resource provider.

Response: To comply with the PREP Guidelines, salvage and MFF components of the VRP must be exercised annually, either separately or combined. IMT, salvage, and MFF exercises may also be combined.

It is a basic PREP tenet that plan holders may claim credit for exercises when conducted in conjunction with other exercises, and a proper record is generated. Credit should be claimed for an actual response when the objectives of the exercise(s) are met, the response is evaluated, and a proper record is generated. Third party salvage and MFF teams may provide documentation of their incidents and exercises to their clients, and their clients may claim credit for the portions of the exercise that are applicable to their VRPs.

Shore-Based Salvage and Shore-Based MFF Exercises for Vessels—Participating Elements: Several commenters requested that the vessel owner/operator be included as a participating element for the shore-based salvage and shore-based MFF exercises.

Response: The management team, as established in a plan holder's VRP, must participate in PREP annual shore-based exercises for salvage and for MFF. The vessel owner/operator is not necessarily part of the management team established in the VRP, but the vessel owner/operator (or representative) may participate in the exercise.

SMFF Equipment Deployment Exercises for Vessels—Participating Elements: Multiple commenters requested removal of the requirement that all SMFF equipment-operating personnel participate in an annual equipment deployment exercises because their routine work involves the deployment of this equipment.

Response: SMFF providers may claim PREP exercise credit for operational equipment deployments if exercise objectives are met and a proper record is documented. This would include claiming credit for participation of all SMFF personnel that were involved in the operational deployment of the equipment.

SMFF Equipment Deployment Exercises for Vessels—Exercise Documentation: One commenter recommended that all vessel plan holders identifying a contracted SMFF provider in their response plans must be able to document completion of SMFF equipment deployment requirements.

Response: It is the vessel plan holder's responsibility to ensure that the contracted SMFF provider completes PREP equipment deployment exercise requirements. All vessel plan holders identifying a contracted SMFF provider in their response plans may claim PREP credit for their SMFF provider's equipment deployment exercises following receipt of exercise documentation from the provider.

Equipment Deployment Exercises for Vessels—Regional Exercises: Some commenters recommended a regional approach to SMFF equipment deployment exercises involving exercises in the Atlantic, Gulf, and Pacific regions, conducted on a rotational basis once every three years.

Response: When an SMFF provider proposes to conduct regional large-scale equipment deployment exercises to meet equipment deployment exercise requirements for their clients, the provider should request Alternative Planning Criteria (APC) approval from the USCG for the proposed exercises as described in 33 CFR 155.1055 and 155.5067.

All vessel plan holders identifying a contracted SMFF provider in their response plans may claim PREP credit for their SMFF provider's equipment deployment exercises following receipt of exercise documentation from the provider.

GIUEs—SMFF Services: Multiple commenters recommended that GIUEs not apply to SMFF services.

Response: SMFF GIUE requirements have been removed from this revision of the PREP Guidelines, and will not apply to SMFF services.

BSEE-Regulated Offshore Facilities Comments

Notification Exercises for BSEE-Regulated Facilities: Three commenters raised concerns over the Notification Exercises for offshore facilities. One comment indicated that requiring notifications within two weeks of beginning operations was too vague. Another comment raised a concern that this two-week requirement may conflict with provisions established by plan holders in their OSRP. A third commenter suggested that the elements of information listed as objectives that must be communicated during Notification Exercises greatly exceeds what is currently contained within OSRPs or is required in the regulations.

Response: Due to the criticality of the spill notification process to an effective response, BSEE strongly recommends testing the plan holder's notification processes very early in their operational lifecycle, as well as preparing to gather and convey as much pertinent information as possible, in the early phase of an incident. BSEE has amended the language to clarify that for 24-hour manned production facilities, a Notification Exercise should be conducted within two weeks of beginning production operations. BSEE did not amend the language that pertains to mobile drilling units in this section, as BSEE believes that OSRPs should align, to the maximum extent possible, with the guidance recommended in the PREP Guidelines, which provide important additional detail concerning the implementation of the regulations. BSEE acknowledges that the elements of information now requested for a Notification Exercise is more detailed than the information that is currently required by the regulations. As a result, BSEE has amended the language in this section to indicate that a plan holder should, rather than must, communicate as many of the elements of information as possible during the Notification Exercise.

Deployment Exercises for Source Control, Subsea Containment, and Supporting Equipment: Two commenters raised concerns about exercises involving source control and subsea containment equipment. One commenter stated that there are high risks and time burdens associated with unannounced exercises of this equipment, and questioned their utility to demonstrate real readiness. One commenter stated that the costs associated with conducting annual or biennial deployment exercises for this equipment is too burdensome, and that such exercises should only be conducted when there has been a material change to equipment design, provider, or means of deployment, or at a minimum frequency of five years.

Response: When source control, subsea containment, and supporting equipment are listed in an OSRP as a means for regaining control of a well and securing a threatened or actual discharge of oil, the PREP Guidelines allow for Regional BSEE Oil Spill Preparedness Division (OSPD) representatives to direct an OSRP holder to conduct a deployment exercise of this equipment. As the scope and cost of such deployment exercises can be quite large, BSEE does not intend to require plan holders or providers of source control, subsea containment, and supporting equipment to conduct deployment exercises at the same semi-annual or annual frequency as required for other spill response equipment. BSEE also does not intend to routinely conduct GIUEs that include the deployment of source control, subsea containment, and supporting equipment as part of the scope of a GIUE; however, BSEE has the authority and retains the prerogative to require GIUEs that have the deployment of source control, subsea containment, and/or supporting equipment as an element of that exercise, or to require deployment exercises of this equipment that are coordinated in advance but have some elements and objectives that will remain undisclosed until the commencement of the exercise. As organizations that provide source control, subsea containment, and supporting equipment cover multiple plan holders, credit for any deployment exercise successfully conducted by such a service provider will be extended to all plan holders who contract with the provider for those services. This extension of credit does not extend to IMT exercises where the management and oversight of source control activities must be exercised to ensure proper integration with other surface response activities and the overall management of the incident. These IMT exercises must include interaction between officials from a plan holder's specific organization and its IMT, including those officials who would manage source control and subsea containment capabilities, and therefore should be conducted separately and singularly for each OSRP.

GIUEs for BSEE-Regulated Facilities: One commenter requested clarification regarding whether there is an annual limit to the number of GIUEs that are conducted by BSEE.

Response: The previous PREP Guidelines indicated that BSEE may exceed 50 GIUEs per year nationally. It is unlikely that BSEE would conceivably conduct 50 or more GIUEs in any given year. There is no specified limit to the number of GIUEs that BSEE may conduct in a calendar year. BSEE will use a number of factors that vary from year to year in order to determine the need to conduct GIUEs, and will use risk-based decision-making tools whenever possible. The language in the revised Guidelines has been amended to indicate that the number of GIUEs conducted by BSEE will be determined by the BSEE OSPD Chief, and does not make any reference to a specific number that may be conducted in a given year.

V. Request for Comments

The NSCC members request public comments on the updated draft PREP Guidelines, which are available in docket USCG-2011-1178 as described in the ADDRESSES section of this notice.

Dated: February 23, 2015.
P.J. Brown,
Rear Admiral, U.S. Coast Guard, Assistant Commandant for Response Policy.

[FR Doc. 2015-04160 Filed 2-26-15; 8:45 am]

BILLING CODE 9110-04-P